Memorandum of March 18, 2016

Delegation of Authority Pursuant to Section 3139(a) and (b) of the National Defense Authorization Act for Fiscal Year 2016

Memorandum for the Director of National Intelligence [and] the Under Secretary for Nuclear Security

By the authority vested in me as President by the Constitution and the laws of the United States of America, including section 301 of title 3, United States Code, I hereby delegate the functions and authorities vested in the President by section 3139(a) and (b) of the National Defense Authorization Act for Fiscal Year 2016 (Public Law 114-92), to the Director of National Intelligence and the Under Secretary for Nuclear Security.

The Director of National Intelligence is authorized and directed to publish this memorandum in the Federal Register.

THE WHITE HOUSE,

Washington, March 18, 2016

[FR Doc. 2016-06715

3-22-16; 8:45 am]

Billing code 3910-A7-P